NUCLEAR REGULATORY COMMISSION

[NRC-2009-0110]

Interim Staff Guidance on Disposition of Review of Evaluation To Address Adverse Flow Effects in Equipment Other Than Reactor Internals

AGENCY: Nuclear Regulatory Commission.

ACTION: Solicitation of public comment.

SUMMARY: The NRC is soliciting public comment on its Proposed Interim Staff Guidance (ISG) DC/COL-ISG-010 (Agencywide Documents Access and Management System (ADAMS) Accession No. ML090510728). The purpose of this ISG is to modify and provide additional clarity in the guidance for the review of analyses of adverse flow effects in equipment other than reactor internals performed by Combined License (COL) and Design Certification (DC) applicants. This ISG would revise the staff guidance previously issued in March 2007 in the Standard Review Plan (SRP) NUREG-0080, “Standard Review Plan for the Review of Safety Analysis Reports for Nuclear Power Plants,” Section 3.9.2, “Dynamic Testing and Analysis of Systems, Structures, and Components,” Section 3.9.5, “Reactor Pressure Vessel Internals,” and Regulatory Guide 1.20, “Comprehensive Vibration Assessment Program for Reactor Internals During Pre-operational and Initial Startup Testing.” The NRC staff issues DC/COL-ISGs to facilitate timely implementation of current staff guidance and to facilitate activities associated with review of applications for DCs and COLs by the Office of New Reactors. The NRC staff will also incorporate the approved DC/COL-ISG-010 into the next revision of the SRP and related guidance documents.

DATES: Comments must be filed no later than 30 days from the date of publication of this notice in the Federal Register. Comments received after this date will be considered, if it is practical to do so, but the Commission is able to ensure consideration only for comments received on or before this date.

ADDRESSES: Comments may be submitted to: Chief, Rulemaking, Directives, and Editing Branch, Office of Administration, Mail Stop TWB-05-B01M, U.S. Nuclear Regulatory Commission, Washington, DC, 20555-0001, and should cite the publication date and page number of the Federal Register notice.

The NRC ADAMS provides text and image files of NRC's public documents. These documents may be accessed through the NRC's Public Electronic Reading Room on the Internet at http://www.nrc.gov/reading-rm/adams.html. Persons who do not have access to ADAMS or who encounter problems in accessing the documents located in ADAMS should contact the NRC Public Document Room reference staff at 1-800-397-4209, 301-415-4737, or by e-mail at PDR.Resource@nrc.gov.

FOR FURTHER INFORMATION CONTACT: Ms. Jennifer L. Dixon-Herrity, Chief, Engineering Mechanics Branch 2, Division of Engineering, Office of the New Reactors, U.S. Nuclear Regulatory Commission, Washington, DC 20555-0001; telephone 301-415-2967 or e-mail at jennifer.dixon-herrity@nrc.gov.

SUPPLEMENTARY INFORMATION: The agency posts its issued staff guidance in the agency external Web page (http://www.nrc.gov/reading-rm/doc-collections/isg/). The NRC staff is issuing this notice to solicit public comments on proposed DC/COL-ISG-010. After the NRC staff considers any public comments, it will make a determination regarding proposed DC/COL-ISG-010.

Dated at Rockville, Maryland, this 9th day of March 2009.
For the Nuclear Regulatory Commission.
William F. Burton,
Branch Chief, Rulemaking and Guidance Development Branch, Division of New Reactor Licensing, Office of New Reactors.

[FR Doc. E9-5604 Filed 3-13-09; 8:45 am]

BILLING CODE 7590-01-P